FEDERAL COMMUNICATIONS COMMISSION

47 CFR Part 73

[DA 03-1707; MB Docket No. 03-119; RM-10694]

Radio Broadcasting Services; Savannah, Springfield and Tybee Island, GA

AGENCY: Federal Communications Commission.

ACTION: Proposed rule.

SUMMARY: This document requests comments on a petition for rule making filed by Cumulus Licensing Corp. (“Petitioner”), requesting the substitution of Channel 280C2 for 280C3 at Springfield, Georgia, reallotment of Channel 280C2 to Tybee Island, Georgia, and modification of the license for Station WEAS accordingly. The coordinates for Channel 280C2 at Tybee Island are 32-00-45 and 80-50-44. The license for Station WSIS, Springfield, Georgia, was modified from Channel 280A to Channel 280C3 in a one-step application (BPH-19990325IE) which has not been reflected in the FM Table of Allotments. Upon termination of this proceeding, we shall correct the FM Table of Allotments to reflect the correct class of channel. Petitioner further requests the reallotment of Channel 226C1, Station WSIS from Savannah, Georgia, to Springfield, Georgia, as a replacement service for Station WEAS. The coordinates for Channel 226C1 at Springfield are 32-02-48 and 81-20-27. Petitioner is the licensee for Station WEAS and WSIS. The proposal complies with the provisions of Section 1.420(i) of the Commission's Rules, and therefore, the Commission will not accept competing expressions of interest in the use of Channels 280C2 at Tybee Island and 226C1 at Savannah.

DATES: Comments must be filed on or before July 11, 2003, and reply comments on or before July 28, 2003.

ADDRESSES: Secretary, Federal Communications Commission, 445 12th Street, SW., Room TW-A325, Washington, DC 20554. In addition to filing comments with the FCC, Interested parties should serve the petitioners' counsel, as follows: Mark N. Lipp, Shook, Hardy & Bacon, 600 14th Street, NW., Suite 800, Washington, DC 20005-2004.

FOR FURTHER INFORMATION CONTACT: Kathleen Scheuerle, Media Bureau, (202) 418-2180.

SUPPLEMENTARY INFORMATION: This is a synopsis of the Commission's Notice of Proposed Rule Making, MB Docket No. 03-119, adopted May 16, 2003, and released May 20, 2003. The full text of this Commission decision is available for inspection and copying during regular business hours in the FCC's Reference Information Center at Portals II, 445 12th Street, SW., CY-A257, Washington, DC, 20554. This document may also be purchased from the Commission's duplicating contractors, Qualex International, Portals II, 445 12th Street, SW., Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Georgia, is amended by removing Channel 226C1 at Savannah, by removing Channel 280A and adding Channel 226C1 at Springfield, and by adding Tybee Island, Channel 280C2.

Federal Communications Commission.
John A. Karousos,
Assistant Chief, Audio Division, Media Bureau.

[FR Doc. 03-14092 Filed 6-4-03; 8:45 am]

BILLING CODE 6712-01-P